DEPARTMENT OF AGRICULTURE

Forest Service

Availabilty of Environmental Assessment To Amend the Hiawatha National Forest Land and Resource Management Plan

AGENCY: Forest Service, USDA.

ACTION: Notice of Availability of Environmental Assement.

SUMMARY: On May 1, 2001, Hiawatha National Forest Supervisor, Clyde N. Thompson (Responsible Official) announced the preferred alternative and availability of the Rock River Canyon Wilderness Environmental Assessment for a 30-day comment and review period. The preferred alternative would amend the Hiawatha National Forest Land and Resource Management Plan (Forest Plan) to revise the standards and guidelines for management of the Rock River Canyon Wilderness. This notice is pursuant to National Forest System Land and Resource Management Planning regulations (36 CFR 219.35(b), 65 FR 67579, November 9, 2000). Copies of the Environmental Assessment (EA) are available upon request.

DATES: On May 1, 2001, Hiawatha National Forest Supervisor, Clyde N. Thompson announced the preferred alternative and availability of the Rock River Canyon Wilderness Environmental Assessment for public review and comment. Comments on the EA must be received no later than May 31, 2001.

ADDRESSES: Send comments or requests for documents to: Forest Supervisor, Hiawatha National Forest, 2727 North Lincoln Road, Escanaba, MI 49829 or email comments to mailroom r9 hiawatha@fs.fed.us, with the subject line: “Rock River Canyon Wilderness EA.”

FOR FURTHER INFORMATION CONTACT: Janel Crooks, Project Coordinator, at 906-387-2512. TDD 906-387-3371. Or access the forest web page at www.fs.fed.us/r9/hiawatha.

Responsible Official: Clyde N. Thompson, Forest Supervisor, 2727 North Lincoln Rd., Escanaba, Michigan 49829.

SUPPLEMENTARY INFORMATION: The proposed Forest Plan Amendment No. 22 describes programmatic standards and guidelines that allow for existing recreation use while reducing resource impacts to the Wilderness and wilderness values. These standards and guidelines address trails, camping and other management concerns. The preferred alternative designates existing trails, prohibits new trails, and institutes voluntary registration for overnight and day use. This is a non-significant amendment. Public involvement has been an important part of the decision making process for this proposal. Public comments were gathered in 1992 through a survey of users. In April 1993, a public scoping letter was sent to over 400 interested parties and a notice was published in the local newspaper. On December 17, 1999, a second public scoping letter was mailed to over 400 interested parties and a legal notice was published in the Escanaba Daily Press, Escanaba, MI. On May 1, 2001, legal notice was published in the Daily Press, Escanaba, MI, notifying the public of the availability of the EA for review. A 30-day comment period follows release of the EA on May 1, 2001. Comments on the EA must be received no later than May 21, 2001. A final decision is expected by November 2001. this decision will be subject to appeal pursuant to USDA Forest Service regulations 36 CFR 217.3.

Dated: April 16, 2001.
Clyde N. Thompson,
Forest Supervisor.

[FR Doc. 01-10500 Filed 4-30-01; 8:45 am]

BILLING CODE 3410-11-M